DEPARTMENT OF ENERGY

Federal Energy Regulatory Commission

[Docket No. RP00-260-000]

Texas Gas Transmission Corporation; Notice of Settlement Conference

June 19, 2000.

Take notice that an informal settlement conference will be convened in this proceeding on Wednesday, June 28 at 10 a.m., at the offices of the Federal Energy Regulatory Commission, 888 First Street, NE, Washington, DC 20426, for the purpose of discussing settlement procedures.

Any party, as defined by 18 CFR 385.102(c), or any participant as defined by 18 CFR 385.102(b), is invited to attend. Persons wishing to become a party must move to intervene and receive intervenor status pursuant to the Commission's regulations (18 CFR 385.214).

For additional information, contact Michael D. Cotleur (202) 208-1076.

David P. Boergers,
Secretary.

[FR Doc. 00-15883 Filed 6-22-00; 8:45 am]

BILLING CODE 6717-01-M